DEPARTMENT OF AGRICULTURE

Forest Service

Notice of Proposed New Fee Site

AGENCY: Forest Service, Agriculture (USDA).

ACTION: Notice of proposed new fee site.

SUMMARY: The Pike and San Isabel National Forest is proposing to charge a new fee at one recreation site listed in SUPPLEMENTARY INFORMATION of this notice. Funds from fees would be used for operation, maintenance, and improvements of this recreation site. An analysis of nearby developed recreation sites with similar amenities shows the proposed fee is reasonable and typical of similar sites in the area.

DATES: If approved, the new fee would be implemented no earlier than six months following the publication of this notice in the Federal Register.

ADDRESSES: Pike and San Isabel National Forest, 2840 Kachina Drive Pueblo, CO 81008.

FOR FURTHER INFORMATION CONTACT: Ben Lara, District Recreation Program Manager, 719-530-3933, or Benjamin.Lara@usda.gov.

SUPPLEMENTARY INFORMATION: The Federal Recreation Lands Enhancement Act (Title VII, Pub. L. 108-447) directed the Secretary of Agriculture to publish a six-month advance notice in the Federal Register whenever new recreation fee areas are established. The fee is only proposed at this time and will be determined upon further analysis and public comment. Reasonable fees, paid by users of these sites, will help ensure that the Forest can continue maintaining and improving recreation sites like this for future generations.

The Forest is proposing a new fee at Iron City Cabin for $120 per night.

New fees would provide increased visitor opportunities as well as increased staffing to address operations and maintenance needs and enhance customer service. Once public involvement is complete, these new fees will be reviewed by the Rocky Mountain Regional Office prior to a final decision and implementation.

Advanced reservations for this cabin will be available through www.recreation.gov or by calling 1-877-444-6777. The reservation service charges an $8.00 fee for reservations.

Dated: January 21, 2022.
Sandra Watts,
Acting Associate Deputy Chief, National Forest System.

[FR Doc. 2022-01538 Filed 1-26-22; 8:45 am]

BILLING CODE 3411-15-P